COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds service(s) to the Procurement List that will be furnished by nonprofit agencies employing persons who are blind or have other severe disabilities.

DATES: Date added to and deleted from the Procurement List: February 01, 2026.

ADDRESSES: Committee for Purchase From People Who Are Blind or Severely Disabled, 355 E Street SW, Suite 325, Washington, DC 20024.

FOR FURTHER INFORMATION CONTACT: For further information or to submit comments contact: Michael R. Jurkowski, Telephone: (703) 489-1322, or email CMTEFedReg@AbilityOne.gov.

SUPPLEMENTARY INFORMATION:

Addition

On November 20, 2025 the Committee for Purchase From People Who Are Blind or Severely Disabled (operating as the U.S. AbilityOne Commission) published an initial notice of proposed additions to the Procurement List. (90 FR 52358) The Committee determined that the service(s) listed below are suitable for procurement by the Federal Government and has added this service(s) to the Procurement List as a mandatory purchase for the contracting activity listed. In accordance with 41 CFR 51-5.3(b), the mandatory purchase requirement is limited to contracting activity at the location listed, and in accordance with 41 CFR 51-5.2, the Committee has authorized the nonprofit agency listed as the authorized source(s) of supply.

After consideration of the material presented to it concerning capability of qualified nonprofit agencies to provide the service(s) and impact of the additions on the current or most recent contractors, the Committee has determined that the service(s) listed below are suitable for procurement by the Federal Government under 41 U.S.C. 8501-8506 and 41 CFR 51-2.4.

Regulatory Flexibility Act Certification

End of Certification

1. The action will not result in additional reporting, recordkeeping or other compliance requirements for small entities.

2. The action may result in authorizing small entities to furnish the service(s) to the Government.

3. There are no known regulatory alternatives which would accomplish the objectives of the Javits-Wagner-O'Day Act (41 U.S.C. 8501-8506) in connection with the service(s) deleted from the Procurement List.

End of Certification

Accordingly, the following service(s) are added to the Procurement List:

Services(s)

Service Type: Base Operating Service

Mandatory for: US Navy, Naval Facilities Engineering Northwest Command, West Sound Facilities, Multiple Locations, Silverdale, WA, 1101 Tautog Circle, Silverdale, WA

Authorized Source of Supply: Skookum Educational Programs, Bremerton, WA

Contracting Activity: DEPT OF THE NAVY, NAVFAC NORTHWEST

The Committee finds good cause to dispense with the 30-day delay in the effective date normally required by the Administrative Procedure Act. See 5 U.S.C. 553(d). This addition to the Committee's Procurement List is effectuated because of the expiration of the DEPT OF THE NAVY, NAVFAC NORTHWEST, Base Operation Services, NAVFAC NW, West Sound, Bremerton, WA contract. The Federal customer contacted and has worked diligently with the AbilityOne Program to fulfill this service need under the AbilityOne Program. To avoid performance disruption, and the possibility that the DEPT OF THE NAVY, NAVFAC NORTHWEST will refer its business elsewhere, this addition must be effective on 2/1/2026, ensuring timely execution for a 2/1/2026 start date. The Committee published an initial notice of proposed Procurement List addition in the Federal Register on 11/20/2025 (90 FR 52358) but did not receive any comments. This addition will not create a public hardship and has limited effect on the public at large. Rather, this addition will create new jobs for other affected parties—people with significant disabilities in the AbilityOne program who otherwise face challenges locating employment. Moreover, this addition enables the Federal customer to continue operations without interruption.

Michael R. Jurkowski,
Director, Business Operations.

[FR Doc. 2026-01160 Filed 1-21-26; 8:45 am]

BILLING CODE 6353-01-P